NATIONAL SCIENCE FOUNDATION

Notice of Permit Applications Received Under the Antarctic Conservation Act of 1978 (Pub. L. 95-541)

AGENCY: National Science Foundation.

ACTION: Notice of permit applications received under the Antarctic Conservation Act of 1978, Pub. L. 95-541.

SUMMARY: The National Science Foundation (NSF) is required to publish notice of permit applications received to conduct activities regulated under the Antarctic Conservation Act of 1978. NSF has published regulations under the Antarctic Conservation Act at Title 45 part 670 of the Code of Federal Regulations. This is the required notice of permit applications received.

DATES: Interested parties are invited to submit written data, comments, or views with respect to this permit application by January 3, 2003. This application may be inspected by interested parties at the Permit Office, address below.

ADDRESSES: Comments should be addressed to Permit Office, Room 755, Office of Polar Programs, National Science Foundation, 4201 Wilson Boulevard, Arlington, Virginia 22230.

FOR FURTHER INFORMATION CONTACT: Nadene G. Kennedy at the above address or (703) 292-7405.

SUPPLEMENTARY INFORMATION: The National Science Foundation, as directed by the Antarctic Conservation Act of 1978 (Public Law 95-541), has developed regulations that implement the “Agreed Measures for the Conservation of Antarctic Fauna and Flora” for all United States citizens. The Agreed Measures, developed by the Antarctic Treaty Consultative Parties, recommended establishment of a permit system for various activities in Antarctica and designation of certain animals and certain geographic areas a requiring special protection. The regulations establish such a permit system to designate Specially Protected Areas and Sites of Special Scientific Interest.

The applications received are as follows:

1. Applicant, Permit Application No. 2003-016: William Gilmore, Environmental Manager, Raytheon Polar Services Company, 7400 South Tucson Way, M.S. 29, Centennial, CO 80112-3938.

Activity for Which Permit is Requested: Enter Antarctic Specially Protected Area. The applicant proposes to enter the Antarctic Specially Protected Area at Cape Crozier (ASPA #124) to perform an Environmental Field Camp Audit. The audit will include documentation of the camp footprint, as well as compliance with waste and Environmental, Health and Safety Protocols. These audits are part of a sustained and coherent monitoring program to form a reliable basis for sound environmental management decisions and possible improvements. Data obtained from the monitoring program will be used to document baseline conditions, verify operational impact, and monitor activities undertaken to recover from accidental impacts to the environment. The applicant plans to visit the site for no more than 3-4 hours. Access to the site will be via helicopter.

Location: Cape Crozier, Ross Island (ASPA #124).

Dates: January 2, 2003 to February 15, 2003.

Nadene G. Kennedy,
Permit Officer, Office of Polar Programs.

[FR Doc. 02-30772 Filed 12-3-02; 8:45 am]

BILLING CODE 7555-01-M